SECURITIES AND EXCHANGE COMMISSION

Issuer Delisting; Notice of Application To Withdraw From Listing and Registration on the American Stock Exchange LLC (Big City Radio, Inc., Class A Common Stock, $.01 par value) File No. 1-13715

November 26, 2003.

Big City Radio, Inc., a Delaware corporation (“Issuer”), has filed an application with the Securities and Exchange Commission (“Commission”), pursuant to Section 12(d) of the Securities Exchange Act of 1934 (“Act”)¹ and Rule 12d2-2(d) thereunder,² to withdraw its Class A Common Stock, $.01 par value (“Security”), from listing and registration on the American Stock Exchange LLC (“Amex” or “Exchange”).

¹ 15 U.S.C. 78l(d).

² 17 CFR 240.12d2-2(d).

The Issuer stated in its application that it has met the requirements of Amex Rule l8 by complying with all applicable laws in the State of Delaware, in which it is incorporated, and with the Amex's rules governing an issuer's voluntary withdrawal of a security from listing and registration.

The Board of Directors (“Board”) of the Issuer approved a resolution on August 22, 2003 to withdraw the Issuer's Security from listing on the Amex. The Board states the following reasons factored into its decision to withdraw the Security from listing and registration on the Amex: (i) The Issuer has sold all of its operating assets; (ii) the board of directors of the Issuer has unanimously approved a plan to complete liquidation and dissolution for the Issuer; and (iii) the Issuer has obtained stockholders approval of the plan by the written consent of the holders of a majority of the voting power of the Issuer's Security in accordance with the requirements of Delaware law and the Issuer's certificate of incorporation.

The Issuer's application relates solely to the withdrawal of the Securities from listing on the Amex and from registration under Section 12(b) of the Act ³ and shall not affect its obligation to be registered under Section 12(g) of the Act.⁴

³ 15 U.S.C. 781(b).

⁴ 15 U.S.C. 781(g).

Any interested person may, on or before December 19, 2003, submit by letter to the Secretary of the Securities and Exchange Commission, 450 Fifth Street, NW, Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
Jonathan G. Katz,
Secretary.

⁵ 17 CFR 200.30-3(a)(1).

[FR Doc. 03-30052 Filed 12-2-03; 8:45 am]

BILLING CODE 8010-01-P